DEPARTMENT OF STATE

[Public Notice 3342]

Bureau of Educational and Cultural Affairs Request for Proposals: College and University Affiliations Program

SUMMARY: The Office of Global Educational Programs of the Bureau of Educational and Cultural Affairs in the Department of State announces an open competition for an assistance award program. Accredited, post-secondary educational institutions meeting the provisions described in IRS regulation 26 CFR 1.5019(C) may apply to pursue institutional or departmental objectives in partnership with foreign counterpart institutions with support from the College and University Affiliations Program. These objectives should support the overall goal of the Program: to strengthen mutual understanding and cooperation among U.S. and foreign educational institutions on specified themes of common interest to the United States and to the participating colleges and universities. The means for achieving the objectives of the applicant and its partner(s) may include teaching, scholarship, and outreach to professionals and other members of the communities served by the participating institutions.

Program Overview

Underlying the specific institutional objectives of projects funded by this program should be the goals of encouraging the growth of freedom and democracy, economic stability and prosperity, or environmental cooperation. Innovative strategies to address these underlying concerns in the pursuit of clearly defined institutional objectives are encouraged. Outreach from academic institutions to larger communities of citizens and practitioners to extend understanding about these issues is also encouraged.

The Bureau supports institutional linkages in higher education through the College and University Affiliations Program, for which this Request for Proposals invites applications for funding in FY2001. The College and University Affiliations Program operates in cooperation with the Fulbright Senior Scholar Program; the U.S. institutions of current and former participants in the Fulbright Program are encouraged to apply. Other college and university teachers and administrators with knowledge of educational institutions in other countries are also encouraged to build on this knowledge with support from the Bureau through the College and University Affiliations Program.

Separate Requests for Proposals for institutional linkages in higher education with the New Independent States of the former Soviet Union (N.I.S. College and University Partnerships Program and the N.I.S. Community College Partnerships Program) are being published this fiscal year. For further information about these N.I.S. programs, refer to the “Foreign Country and Location Eligibility” section of this solicitation.

Applicant Objectives

While the benefits of the project to each of the participating institutions may differ significantly in nature and scope, proposals should outline well-reasoned strategies leading to specific objectives for each participating U.S. and foreign department or institution as a whole.

For example, proposals may describe the parameters and possible content of new courses, new research or teaching capacities or methodologies, new or revised curricula or programs, or other changes anticipated as a result of the project. Proposals to pursue a limited number of related thematic objectives at each institution are preferred to proposals addressing a large number of unrelated objectives at each institution.

Partner institutions may pursue their institutional objectives through exchanges of teachers, researchers, administrators or, in limited circumstances, students for any appropriate combination of teaching, consultation, research, and outreach. The length of time for each exchange may range from one week to an academic year. The strategy for achieving project objectives may include exchange visits in one or both directions, but no single formula is prescribed for the duration, sequence, or number of these visits. Visits of one semester or more for participants from at least one of the institutional partners are strongly encouraged. The number of visits of less than two weeks' duration should not exceed one visit in each direction over the course of the project. To provide adequate time to meet institutional project objectives, the Program awards grants for periods of approximately three years (36 months to 40 months).

Although strong budgetary and programmatic emphasis may be given to visits in one direction over another, the benefits of all these visits to the sending as well as the receiving sides should be clearly explained. Exchange visits for the purpose of attending conferences are not encouraged except in combination with other grant activities and in support of specific educational objectives at one or more of the participating institutions.

In addition to demonstrating how each participating institution can assist its partner(s) to meet institutional goals, proposals should also explain how this cooperation will enable each of the institutions to address its own needs. Accordingly, applicants are encouraged to describe the needs and deficiencies as well as the strengths and capabilities of each participating department and institution. Proposals that realistically assess institutional capacities will be better able to justify the request for support. Effective proposals will demonstrate that the proposed partnership institutions understand one another and are committed to support and cooperate with one another in project implementation. Accordingly, proposals should reflect substantial awareness of the foreign as well as the U.S. partner(s). Proposals that benefit only one institutional partner are not eligible for funding.

If the proposed partnership would occur within the context of a previous or ongoing project, the proposal should explain how the request for Bureau funding would build upon the pre-existing relationship or complement previous and concurrent projects, which must be listed and described with details about the amounts and sources of external support. Previous projects should be described in the proposal, and the results of the evaluation of previous cooperative efforts should be summarized.

Proposals should outline and budget for a methodology for project evaluation. The evaluation plan should include an updated assessment of the current status of each participating department's and institution's needs at the time of program inception; ongoing formative evaluation to allow for mid-course revisions in the implementation strategy; and, at the conclusion of the project, summative evaluation of the degree to which the project's objectives have been achieved together with observations about the project's influence within the participating institutions and their surrounding communities or societies. The final evaluation should also include recommendations about how to build upon project achievements, both with and without the Bureau's support. Evaluative observations by external consultants with appropriate subject or regional expertise are especially encouraged.

Costs

The commitment of all partner institutions to the proposed project should be reflected in the cost-sharing which they offer in the context of their respective institutional capacities. Although the contributions offered by U.S. and foreign institutions with relatively few resources may be less than those offered by applicants with greater resources at their disposal, all participating institutions are expected to identify costs that they will contribute. These costs may include the estimated costs of in-kind contributions. Consistent with the “Review Criteria” for this competition listed elsewhere in this document and with specific reference to “Cost-Sharing” and “Institutional Commitment to Cooperation,” proposed cost-sharing will be considered an important indicator of each participating institution's interest in the project and of the institution's potential to benefit from it.

Proposals must be submitted by the U.S. institutional partner and must include letters of commitment from all institutional partners. The letters should be signed by persons authorized to commit institutional resources to the project.

The Bureau's support may be used to defray the costs of the exchange visits as well as the costs (up to a maximum of 20 percent of the total grant) of the administration of the project at any partner institution, including administrative salaries and direct administrative costs but excluding indirect costs. Although the grants will be awarded to the lead U.S. institutional partner, adequate provision in the proposal for the administrative costs of the project at all partner institutions, including the foreign partner(s), is encouraged.

Administrative salaries may include salary support for project directors and administrative assistants for administrative activity within the 20 percent maximum that may be allocated to administrative costs, but the Bureau will not fund salaries, stipends, or honoraria for program participants. However, in proposals for Sub-Saharan Africa, faculty replacement costs are allowable once in a three-year grant period if they facilitate the work of a U.S. faculty member at an African partner institution for one quarter or one semester. (See sections of this document on “U.S. Partner and Participant Eligibility” and “Foreign Partner and Participant Eligibility” for additional details.) The fees of outside consultants reporting on the degree to which project objectives have been achieved are allowable as a program expense.

The proposal may include a request for funding to reinforce the activities of exchange participants through the establishment and maintenance of Internet and/or electronic mail communication facilities as well as through interactive technology or non-technology-based distance-learning programs. However, projects focusing primarily on technology or physical infrastructure development are not encouraged. Proposals that include Internet, electronic mail, and other interactive technologies should discuss how the foreign partner institution will support the costs of such technologies after the project ends. Applicants may propose other project activities not specifically mentioned in this solicitation if the activities reinforce the impact of the project.

With the exception of projects with Sub-Saharan Africa, the maximum award in the FY2001 competition will be $120,000; for projects with Sub-Saharan Africa, the maximum award will be $180,000. Requests for amounts smaller than the maximum are eligible. Budgets and budget notes should carefully justify the amounts requested. Grants awarded to organizations with less than four years of experience in conducting international exchange programs will be limited to $60,000.

Grants are subject to the availability of funds for Fiscal Year 2001. The amount of funding available for proposals to the College and University Affiliations Program in FY2001 has not yet been determined. In Fiscal Year 1999, 66 eligible proposals were submitted to the College and University Affiliations Program, and 17 awards were made. The response to Requests for Proposals to the Bureau to support institutional linkages in higher education has been unusually strong in recent years and, except for Sub-Saharan Africa and the New Independent States of the former Soviet Union, the funds available have fallen significantly short of the demand for them.

However, additional funding may be available in Fiscal Year 2001 to award a limited number of grants under the College and University Affiliations Program to enable current and former Fulbright scholars to build on their experiences as individual Fulbright grantees through broadened institutional cooperation.

Eligible Fields

Eligible fields are the social, political, and economic sciences; environmental studies; law; business; public administration; and educational development or administration (excluding educational projects in the physical, technical, or health sciences, as well as the Teaching of English as a Foreign Language). Within the eligible fields, themes of special interest are described in additional detail in this document under the heading “Foreign Country and Location Eligibility.”

U.S. Institution and Participant Eligibility

In the United States, participation in the program is open to accredited two-and four-year colleges and universities, including graduate schools. Applications from community colleges, minority-serving institutions, undergraduate liberal arts colleges, research universities, and combinations of these types of institutions are eligible. Applications from consortia or other combinations of U.S. colleges and universities are eligible. Secondary U.S. partners may include non-governmental organizations as well as non-profit service and professional organizations. The lead U.S. organization in the consortium or other combination of cooperating institutions is responsible for submitting the application. Each application must document the lead organization's authority to represent all U.S. cooperating partners.

With the exception of outside consultants reporting on the degree to which project objectives have been achieved, participants representing the U.S. institution who are traveling under the Bureau's grant funds must be teachers, graduate student teaching or research assistants, or administrators from the participating institution(s). Participants representing the U.S. institution must be U.S. citizens. Graduate student teaching or research assistants are eligible for Bureau-funded participation in this program only if they are working under the direction of an accompanying faculty participant or project director on the achievement of project objectives.

Foreign Institution and Participant Eligibility

In other countries, participation is open to recognized institutions of post-secondary education, which may include independent research institutes. Secondary foreign partners may include relevant governmental and non-governmental organizations, as well as non-profit service and professional organizations.

With the exception of outside consultants reporting on the degree to which project objectives have been achieved, participants representing the foreign institutions must be teachers, administrators, or student teaching or research assistants who are working under the supervision of an accompanying faculty participant or project director on the achievement of project objectives. Foreign participants must be citizens, nationals, or permanent residents of the country of the foreign partner and must be qualified to hold a valid passport and a U.S. J-1 visa.

Foreign Country and Location Eligibility

To increase the chances that competitive proposals can be funded, the number of eligible countries and locations is limited. However, country eligibility is expected to rotate within most of the following seven world regions according to a three-year cycle as outlined below. Countries may be added to the countries listed for FY2002 and FY2003; countries listed as anticipated for eligibility are expected to be eligible in the year(s) for which they are listed. Separate Requests for Proposals will be issued in the spring of 2001 for FY2002 and in the spring of 2002 for FY2003.

(1) New Independent States (former Soviet Union): Institutions interested in partnerships with institutions of higher education in the New Independent States should consult separate Requests for Proposals for the N.I.S. College and University Partnerships Program and for the N.I.S. Community College Partnerships Program. For information about these programs, contact the Humphrey Fellowships and Institutional Linkages Branch, Office of Global Educational Programs (ECA/A/S/U), Room 349, U.S. Department of State, State Annex 44, 301 4th Street, S.W., Washington, D.C. 20547, phone: (202) 619-5289, fax: (202) 401-1433.

(2) Sub-Saharan Africa: Proposals are encouraged that will strengthen the role of African institutions of higher education in their countries' national development and, more specifically, promote the increased interaction of African universities with other local and international institutions that contribute to African social, political or economic development.

Eligible for FY2001: Benin, Burkina Faso, Cameroon, Chad, Cote d'Ivoire, Ghana, Guinea, Madagascar, Mali, Mauritius, Niger, Nigeria, Senegal, South Africa, Togo, and Rwanda. In addition, multilateral proposals involving institutions in not more than four of the following countries are also eligible: Benin, Burkina Faso, Cameroon, Chad, Cote d'Ivoire, Guinea, Madagascar, Mali, Mauritius, Niger, Senegal, Togo, and Rwanda. These proposals should clearly outline a pattern of involvement and cooperation with all the participating African institutions and should indicate anticipated benefits to all the institutional partners.

Anticipated eligibility for FY2002: Kenya, Mozambique, Namibia, Nigeria, Tanzania, Uganda, and Zimbabwe. Subjects to be determined.

Anticipated eligibility for FY2003: Countries and subjects to be determined.

(3) Western Hemisphere: Proposals are especially encouraged which strengthen judicial, civic, economic, or educational reform in the eligible Latin American and Caribbean countries, or which address current issues in communications or the social or environmental sciences.

Eligible for FY2001: Argentina, Barbados, Brazil, Chile, Jamaica, Paraguay, Trinidad and Tobago, and Uruguay.

In addition to bilateral proposals with any one of these countries, proposals for projects involving educational institutions in two or more countries belonging to the South American Common Market (MERCOSUR) are also eligible: Argentina, Brazil, Paraguay and Uruguay.

Anticipated Eligibility for FY2002: Costa Rica, El Salvador, Mexico, Guatemala, Honduras, Nicaragua, Panama, and trilateral projects including both Canada and Mexico. Subjects to be determined.

Anticipated Eligibility for FY2003: Bolivia, Colombia, Dominican Republic, Ecuador, Haiti, Peru, and Venezuela. Subjects to be determined.

(4) East Asia and the Pacific: Proposals for projects that will promote democracy, strengthen civil society, or help to create more transparent, market-oriented economies are encouraged.

Eligible for FY2001: China, Indonesia, Malaysia, Philippines, Thailand, and Vietnam.

Anticipated Eligibility for FY2002: China, Korea, Mongolia, and Taiwan. Subjects to be determined.

Anticipated Eligibility for FY2003: Cambodia, China, Indonesia, and Laos. Subjects to be determined.

(5) Europe: Proposals are encouraged that will equip universities to assist with the transitions to more market-oriented economies, to more democratic political life, and to more responsible and accountable administration in the public sector.

Eligible for FY2001: Albania, Bosnia and Herzegovina, Croatia, Hungary, Slovakia, Slovenia, and Turkey.

Anticipated Eligibility for FY 2002: Bulgaria, Czech Republic, Estonia, Latvia, and Lithuania. Subjects to be determined.

Anticipated Eligibility for FY2003: Former Yugoslav Republic of Macedonia, Poland, and Romania. Subjects to be determined.

(6) North Africa and the Middle East: Projects are encouraged which strengthen civil society, which support the development of programs in American Studies at universities in the region, or which assist the development of a more effective and more transparent public sector.

Eligible for FY2001: Egypt, Gaza, Israel, Jordan, Tunisia, West Bank, and Morocco.

Anticipated Eligibility for FY2002: Bahrain, Lebanon, Syria, and Tunisia. Subjects to be determined.

Anticipated Eligibility for FY2003: Algeria, Gaza, Qatar, Saudi Arabia, and West Bank. Subjects to be determined.

(7) South Asia: Proposals for projects that will help to develop good governance and strengthen educational and economic institutions in the region are encouraged.

Eligible for FY2001: India, Nepal, and Sri Lanka.

Anticipated Eligibility for FY2002: India, Pakistan, and Bangladesh. Subjects to be determined.

Anticipated Eligibility for FY2003: Countries and subjects to be determined.

Ineligibility

A proposal may be deemed technically ineligible if:

(1) It does not fully adhere to the guidelines established herein and in the Solicitation Package;

(2) It is not received by the deadline;

(3) It is not submitted by the U.S. partner;

(4) One of the partner institutions is ineligible;

(5) The foreign country or geographic location is ineligible;

(6) It involves a request to fund exchanges between the United States and more than one other country with the exceptions noted in the sections on country eligibility for the Western Hemisphere and for Sub-Saharan Africa.

(7) The amount requested from the Bureau exceeds $120,000 with the exception of proposals for Sub-Sahara Africa, where the maximum is $180,000.

Grant-Making Authority

Overall grant-making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program cited above is provided through the Fulbright-Hays Act.

Projects must conform with the Bureau's requirements and guidelines outlined in the solicitation package for this RFP, which can be obtained by following the instructions given in the section below entitled “For Further Information.” The “Project Objectives, Goals, and Implementation” (hereafter, POGI) and the “Project Specific Instructions (hereafter, PSI), which contain additional guidelines, are included in the Solicitation Package. Proposals that do not follow RFP requirements and the guidelines appearing in the POGI and PSI may be excluded from consideration due to technical ineligibility.

Announcement Title and Number

All communications with the Bureau concerning this announcement should refer to the College and University Affiliations Program and reference number ECA/A/S/U-01-02.

Deadline for Proposals

All copies must be received at the Bureau of Educational and Cultural Affairs by 5 p.m. Washington, D.C. time on Monday, November 13, 2000. Faxed documents will not be accepted, nor will documents postmarked on Monday, November 13, 2000 but received on a later date.

Approximate program dates: Grant activities should begin on or about July 1, 2001.

Program Duration: July 1, 2001-June 30, 2004 (or until September 30, 2004).

For Further Information

Contact the Humphrey Fellowships and Institutional Linkages Branch (College and University Affiliations Program); Office of Global Educational Programs; Bureau of Educational and Cultural Affairs; ECA/A/S/U, Room 349; U.S. Department of State; SA-44, 301 Fourth Street, S.W.; Washington, D.C. 20547; phone: (202) 619-5289, fax: (202) 401-1433. Applicants may also send a message to affiliation@pd.state.gov to request a Solicitation Package. The Solicitation Package includes more detailed award criteria; all application forms; and guidelines for preparing proposals, including specific criteria for preparation of the proposal budget.

To Download a Solicitation Package Via Internet

The entire Solicitation Package may be downloaded from the Bureau's website at

http://exchanges.state.gov/education/rfps.

Please read all information before downloading.

Please specify “College and University Affiliations Program Officer” on all inquiries and correspondence. Prospective applicants should read the complete Federal Register announcement before addressing inquiries to the College and University Affiliations Program staff or submitting their proposals. Once the RFP deadline has passed, Department staff may not discuss this competition in any way with applicants until the Bureau proposal review process has been completed.

Submissions

Applicants must follow all instructions given in the Solicitation Package. The original and 10 copies of the complete application should be sent to:

U.S. Department of State, Ref: ECA/A/S/U-01-02, Program Management, ECA/EX/PM, Room 336, Bureau of Educational and Cultural Affairs, SA-44, 301 4th Street, SW., Washington, DC 20547

All copies should include the documents specified under Tabs A through E in the “Project Objectives, Goals, and Implementation” (POGI) section of the Solicitation Package. The documents under Tab F of the POGI should be submitted with the original application and with one of the ten copies.

Applicants must also submit the “Executive Summary” and “Proposal Narrative” sections of the proposal on a 3.5″ diskette, formatted for DOS. This material must be provided in ASCII text (DOS) format with a maximum line length of 65 characters. The Bureau will transmit these files electronically to the Public Affairs Sections at U.S. Embassies for review, with the goal of reducing the time needed to make the comments of overseas posts available in the Bureau's grant review process.

Diversity, Freedom and Democracy Guidelines

Pursuant to the Bureau's authorizing legislation, projects must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the “Support for Diversity” section for specific suggestions on incorporating diversity into the total proposal. Public Law 104-319 provides that “in carrying out programs of educational and cultural exchange in countries whose people do not fully enjoy freedom and democracy,” the Bureau “shall take appropriate steps to provide opportunities for participation in such programs to human rights and democracy leaders of such countries.” Proposals should account for advancement of this goal, in their program contents, to the full extent deemed feasible.

Year 2000 Compliance Requirement (Y2K Requirement)

The Year 2000 (Y2K) issue is a broad operational and accounting problem that could potentially prohibit organizations from processing information in accordance with Federal management and program specific requirements including data exchange with the Department of State. The inability to process information in accordance with Federal requirements could result in grantees' being required to return funds that have not been accounted for properly.

The Department of State therefore requires all organizations use Y2K compliant systems including hardware, software, and firmware. Systems must accurately process data and dates (calculating, comparing and sequencing) both before and after the beginning of the year 2000 and correctly adjust for leap years.

Additional information addressing the Y2K issue may be found at the General Services Administration's Office of Information Technology website at http://www.itpolicy.gsa.gov.

Review Process

The Bureau will acknowledge receipt of all proposals and will review them for technical eligibility. Proposals will be deemed ineligible if they do not fully adhere to the guidelines stated herein and in the Solicitation Package. All eligible proposals will be evaluated by independent external reviewers. In addition, all eligible proposals will be reviewed by internal Bureau and U.S. Embassy or Fulbright Commission officers for non-binding advisory comment.

The independent external reviewers, who will be professional, scholarly, or educational experts with appropriate regional and thematic knowledge, will provide recommendations and assessments for consideration by the Bureau. The Bureau will consider for funding only those proposals which are recommended for further consideration by the independent external reviewers.

Proposals may also be reviewed by the Office of the Legal Advisor or by other offices of the U.S. Department of State. Funding decisions will be made at the discretion of the Under Secretary of State for Public Diplomacy and Public Affairs. Final technical authority for assistance awards (grants or cooperative agreements) will reside with a contracts officer with competency for Bureau programs.

Review Criteria

All reviewers will use the criteria below to reach funding recommendations and decisions. Technically eligible applications will be reviewed competitively according to these criteria, which are not rank-ordered or weighted.

(1) Broad Significance of Institutional Objectives: Project objectives should have significant but realistically anticipated ongoing consequences for the participating institutions and for their surrounding societies or communities through a deepened mutual understanding of one another and of issues pertaining to freedom and democracy, economic stability and prosperity, or environmental cooperation.

(2) Clarity and Relevance of Project Objectives to Institutional Needs: Proposed projects should outline clearly formulated objectives that relate specifically to the needs of the participating institutions.

(3) Creativity and Feasibility of Strategy to Achieve Project Objectives: Strategies to achieve project objectives should demonstrate the feasibility of doing so during a three-year period by utilizing and reinforcing exchange activities realistically and with creativity.

(4) Institutional Commitment to Cooperation: Proposals should demonstrate significant understanding at each institution of its own needs and capacities and of the needs and capacities of its proposed partner(s), together with a strong commitment, during and after the period of grant activity, to cooperate with one another in the mutual pursuit of institutional objectives.

(5) Project Evaluation: Proposals should outline a methodology for determining the degree to which a project meets its objectives, both while the project is underway and at its conclusion. The final project evaluation should include an external component and should provide observations about the project's influence within the participating institutions as well as their surrounding communities or societies.

(6) Cost-effectiveness: Administrative and program costs should be reasonable and appropriate with cost-sharing provided by all participating institutions within the context of their respective capacities and as a reflection of their commitment to cooperate with one another in pursuing project objectives. Although indirect costs are eligible for inclusion as cost-sharing by the applicant, contributions should not be limited to indirect costs.

(7) Support of Diversity: Proposals should demonstrate substantive support of the Bureau's policy on diversity by explaining how issues of diversity relate thematically to project objectives for all institutional partners and how these issues will be addressed during project implementation. Proposals should also outline the institutional profile of each participating institution with regard to issues of diversity.

Notice

The terms and conditions published in this RFP are binding and may not be modified by any State Department representative. Explanatory information provided by the Department of State that contradicts published language will not be binding. Issuance of the RFP does not constitute an award commitment on the part of the Government. The Bureau reserves the right to reduce, revise, or increase proposal budgets in accordance with the needs of the program and the availability of funds. Awards made will be subject to periodic reporting and evaluation requirements.

Notification

Final awards cannot be made until funds have been appropriated by Congress, allocated and committed through internal Bureau procedures.

Dated: June 12, 2000.
Evelyn S. Lieberman,
Under Secretary for Public Diplomacy and Public Affairs, U.S. Department of State.

[FR Doc. 00-16506 Filed 6-28-00; 8:45 am]

BILLING CODE 4710-11-P